DEPARTMENT OF LABOR

Employment and Training Administration

[TA-W-65,541]

Icon Health and Fitness, Logan, UT; Notice of Termination of Investigation

Pursuant to Section 221 of the Trade Act of 1974, as amended, an investigation was initiated on March 10, 2009 in response to a petition filed by a state agency representative on behalf of workers of Icon Health and Fitness, Logan, Utah.

The petitioner has requested that the petition be withdrawn. Therefore, the investigation under this petition has been terminated.

Signed at Washington, DC, this 31st day of March, 2009.
Linda G. Poole,
Certifying Officer, Division of Trade Adjustment Assistance.

[FR Doc. E9-10228 Filed 5-4-09; 8:45 am]

BILLING CODE 4510-FN-P